DEPARTMENT OF THE INTERIOR

Bureau of Safety and Environmental Enforcement

30 CFR Part 250

[Docket ID: BSEE-2014-0001; 15XE1700DX EX1SF0000.DAQ000 EEEE500000]

RIN 1014-AA22

Oil and Gas and Sulphur Operations on the Outer Continental Shelf (OCS); Helideck and Aviation Fuel Safety for Fixed Offshore Facilities

AGENCY: Bureau of Safety and Environmental Enforcement (BSEE), Interior.

ACTION: Extension of comment period for an advance notice of proposed rulemaking (ANPR).

SUMMARY: BSEE is extending the public comment period on the ANPR on Helideck and Aviation Fuel Safety for Fixed Offshore Facilities, which was published in the Federal Register on September 24, 2014 (79 FR 57008). The original public comment period would end on November 24, 2014. However, BSEE has received a request from an offshore oil and gas industry association to extend the comment period. The BSEE has reviewed the extension request and determined that a 30-day comment period extension—to December 24, 2014—is appropriate.

DATES: Written comments must be received by the extended due date of December 24, 2014. The BSEE may not fully consider comments received after this date.

ADDRESSES: You may submit comments on the rulemaking by any of the following methods. Please use the Regulation Identifier Number (RIN) 1014-AA22 as an identifier in your message.

• Federal eRulemaking Portal: http://www.regulations.gov. In the entry titled Enter Keyword or ID, enter BSEE-2014-0001 then click search. Follow the instructions to submit public comments and view supporting and related materials available for this rulemaking. The BSEE may post all submitted comments.

• Mail or hand-carry comments to the Department of the Interior (DOI); Bureau of Safety and Environmental Enforcement; Attention: Regulations and Standards Branch; 381 Elden Street, HE3313; Herndon, Virginia 20170-4817. Please reference “Oil and Gas and Sulphur Operations in the Outer Continental Shelf—Helideck and Aviation Fuel Safety for Fixed Offshore Facilities, 1014-AA22” in your comments and include your name and return address.

• Public Availability of Comments—Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Ralph Colleli, Regulations and Standards Branch, 703-787-1831, email address: regs@bsee.gov.

SUPPLEMENTARY INFORMATION: The BSEE published an ANPR on Helideck and Aviation Fuel Safety for Fixed Offshore Facilities on September 24, 2014 (79 FR 57008). The BSEE is seeking comments on improving safety for operations related to helicopters and helidecks on fixed offshore facilities. Specifically, BSEE invites comments on whether to incorporate in its regulations certain industry and/or international standards for design, construction, and maintenance of offshore helidecks, as well as standards for aviation fuel quality, storage and handling. The BSEE also invites comments on whether it should incorporate existing standards, with or without modifications, and/or develop and propose new government regulatory standards for safety of helidecks and aviation fuel systems on OCS facilities. The BSEE also seeks information on past accidents or other incidents involving helidecks, helicopters, or aviation fuel on or near fixed OCS facilities. After publication of the ANPR, BSEE received a request from an oil and gas industry group asking BSEE to extend the comment period on the ANPR by 60 days. Although BSEE does not agree that a 60-day extension is appropriate, BSEE is extending its original 60-day comment period by an additional 30 days to provide additional time for review of and comment on the ANPR. Accordingly, written comments must be submitted by the extended due date of December 24, 2014. The BSEE may not fully consider comments received after this date.

Dated: November 18, 2014.
David E. Haines II,
Deputy Assistant Secretary, Land and Minerals Management.

[FR Doc. 2014-27761 Filed 11-21-14; 8:45 am]

BILLING CODE 4310-VH-P